DEPARTMENT OF JUSTICE

Federal Bureau of Investigation

[OMB Number 1110-0048]

Agency Information Collection Activities; Proposed eCollection, eComments Requested; Cargo Theft Incident Report

AGENCY: Federal Bureau of Investigation, Department of Justice.

ACTION: 30-Day notice and request for comments.

SUMMARY: The Department of Justice, Federal Bureau of Investigation, Criminal Justice Information Services Division, will be submitting the following information collection request to the Office of Management and Budget for review and approval in accordance with the Paperwork Reduction Act of 1995.

DATES: Comments are encouraged and will be accepted for 30 days until August 2, 2021.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the Federal Bureau of Investigation, including whether the information will have practical utility.

—Evaluate the accuracy of the agency's estimate of the burden of the proposed collection of information, including the validity of the methodology and assumptions used.

—Evaluate how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a previously approved collection.

2. The Title of the Form/Collection: Cargo Theft Incident Report

3. The agency form number, if any, and the applicable component of the Department sponsoring the collection: There is no form number for this collection. The applicable component within the Department of Justice is the Criminal Justice Information Services Division of the Federal Bureau of Investigation.

4. Affected public who will be asked or required to respond, as well as a brief abstract:

Primary: Law enforcement agencies.

Abstract: This survey is needed to collect reports of cargo theft offenses reported by federal, state, local, and tribal law enforcement agencies. It should be noted that cargo theft offenses are being collected under the National Incident-Based Reporting System as of January 1, 2021. Therefore, this data collection will serve to collect updates to incidents only.

5. An estimate of the total number of respondents and the amount of time estimated for an average respondent to respond: The Federal Bureau of Investigation Uniform Crime Reporting Program's Cargo Theft Incident Report Estimation: It is estimated the Cargo Theft Incident Report Estimation will generate 4,528 feedback responses per year with an estimated response time of five minutes per response.

6. An estimate of the total public burden (in hours) associated with the collection: There are approximately 378 hours, annual burden, associated with this information collection.

If additional information is required contact: Melody Braswell, Department Clearance Officer, United States Department of Justice, Justice Management Division, Policy and Planning Staff, Two Constitution Square, 145 N Street NE, 3E.405A, Washington, DC 20530.

Dated: June 28, 2021.
Melody Braswell,
Department Clearance Officer for PRA, U.S. Department of Justice.

[FR Doc. 2021-14070 Filed 7-1-21; 8:45 am]

BILLING CODE 4410-02-P